DEPARTMENT OF HOMELAND SECURITY

Coast Guard

33 CFR Chapter I

46 CFR Chapter I

[Docket No. USCG-2021-0404]

Cancellation of Obsolete Navigation and Inspection Circulars

AGENCY: Coast Guard, DHS.

ACTION: Announcement of decision.

SUMMARY: The Coast Guard announces the cancellation of several obsolete Navigation and Vessel Inspection Circulars (NVIC). NVICs are guidance documents issued by the Coast Guard that do not have the force of law. However, NVICs ensure Coast Guard inspections and other regulatory actions conducted by field personnel are complete and consistent. Similarly, the marine industry and the general public rely on NVICs as a way to assess how the Coast Guard will enforce certain regulations or conduct various marine safety programs. Thus, it is important that the public is made aware when NVICs are cancelled so as to avoid confusion.

DATES: July 15, 2021.

FOR FURTHER INFORMATION CONTACT: For information about this document call or email LCDR Peter Bizzaro, Coast Guard; telephone 202-372-1135, email cg-cvc@uscg.mil.

SUPPLEMENTARY INFORMATION:

Background and Purpose

A Navigation and Vessel Inspection Circular (NVIC) provides detailed guidance about the enforcement or compliance with a certain Federal marine safety regulations and Coast Guard marine safety programs. While NVIC's are non-directive, meaning that they do not have the force of law, they are important “tools” for complying with the law. To best serve the public and maritime industry, the Coast Guard is reviewing and actively managing its inspections policy to ensure that all published NVICs are consistent with current practices.

The Coast Guard is issuing this document under 5 U.S.C. 552(a)(1)(e). This document serves to inform the public about the cancellation and removal of certain obsolete and outdated Coast Guard NVICs. The Coast Guard wishes to reduce confusion to the public by removing NVICs that do not reflect current practices and that potentially conflict with more modern guidance.

NVICs Being Repealed

1. NVIC 09-83 provided guidance on the carriage of charts and publications. The regulations it references were amended in June 2001. Agencies mentioned in the NVIC no longer provide the services mentioned as charts have moved to digital formatting. Current policy can be found in the superseding NVIC 01-16.

2. NVICs 02-97 and 02-97CH-1 provided guidance on the implementation of operational measures for existing tank vessels without double hulls until 2015. The phase out ended on January 1, 2015. Since the phase out date of January 1, 2015 has passed the guidance no longer applies. Due to the obsolescence of the vessel classification this NVIC regulates, there is no longer a need for its publication.

3. NVICs 10-94, 10-94CH-1, and 10-94CH-2 provided guidance for the OPA 90 Phase-Out Schedule of single hull vessels carrying oil. The phase out ended on January 1, 2015. After January 1, 2015 any vessel carrying oil must be double hulled, except for those exceptions under 46 U.S.C. 3703a (b)(1)-(5). The phase out was final in 2015. Therefore, there are no more vessels operating lawfully which would need a determination for phase out. This eliminates the need for guidance in classifying them.

4. NVIC 10-83 provides guidance on the procedures for the issuance of stability letters to small passenger vessels (SPV) of less than 65′. The Coast Guard organizations referenced no longer exist and the SPV stability regulations have been updated twice since the date of issuance. This NVIC is outdated and confusing to the public. The current regulatory requirements for a stability letter can be found in 46 CFR part 170.

5. NVIC 00-13 provides guidance on the list of currently applicable NVICs as of January 1, 2013. This list is incomplete and outdated. The list of currently applicable NVICs has not been updated since January 1, 2013. The Coast Guard provides all NVICs on its outward facing website where each NVIC entry's description indicates whether its currently applicable.

6. NVIC 05-71 provides an index of 46 CFR part 151 under subchapter O that concerns barges carrying bulk liquid hazardous material cargoes. The subchapter has been altered since the time of the NVIC's release. The information in this NVIC is no longer accurate or current. The current outline of subchapter O on certain bulk dangerous cargoes can be found as part of the eCFR, provided at no cost online.

7. NVIC 07-99 provides guidance regarding the Coast Guard's policy on ensuring maritime safety during the year 2000 (Y2K) date change. The year 2000 has passed and this policy is no longer applicable.

8. NVIC 13-92 provides guidance concerning the delineation of Captain of the Port (COTP) zone boundaries throughout the Exclusive Economic Zone (EEZ). NVIC 13-92 has out of date geographical limits to represent COTP zone boundaries and is obsolete. The current COTP boundaries are properly reflected in 33 CFR part 3.

Dated: June 14, 2021.
W.R. Arguin,
Captain, U.S. Coast Guard, Director of Inspection and Compliance (CG-5PC).

[FR Doc. 2021-14966 Filed 7-14-21; 8:45 am]

BILLING CODE 9110-04-P